DEPARTMENT OF ENERGY

Federal Energy Regulatory Commission

18 CFR Parts 50 and 380

[Docket No. RM22-7-000; Order No. 1977]

Applications for Permits to Site Interstate Electric Transmission Facilities

In rule document 2024-10879, beginning on page 46682 in the issue of Wednesday, May 29, 2024, make the following correction:

On page 46733, in the second column, in amendatory instruction 11. c., on the second line, “paragraph I” should read “paragraph (e)”.

[FR Doc. C1-2024-10879 Filed 5-31-24; 8:45 am]

BILLING CODE 0099-10-D